DEPARTMENT OF AGRICULTURE

Animal and Plant Health Inspection Service

[Docket No. APHIS-2009-0059]

Availability of an Environmental Assessment for a Biological Control Agent for Japanese Beetle

AGENCY: Animal and Plant Health Inspection Service, USDA.

ACTION: Notice of availability and request for comments.

SUMMARY: We are advising the public that the Animal and Plant Health Inspection Service has prepared an environmental assessment relative to the control of Japanese beetle (Popillia japonica). The environmental assessment considers the effects of, and alternatives to, the release of a bacterium, Bacillus thuringiensis japonensis, into the continental United States for the use of biological control to reduce the severity of infestations of Japanese beetle on turfgrass. We are making the environmental assessment available to the public for review and comment.

DATES: We will consider all comments that we receive on or before October 28, 2009.

ADDRESSES: You may submit comments by either of the following methods:

• Federal eRulemaking Portal: Go to http://www.regulations.gov/fdmspublic/component/main?main=DocketDetail&d=APHIS-2009-0059 to submit or view comments and to view supporting and related materials available electronically.

• Postal Mail/Commercial Delivery: Please send two copies of your comment to Docket No. APHIS-2009-0059, Regulatory Analysis and Development, PPD, APHIS, Station 3A-03.8, 4700 River Road Unit 118, Riverdale, MD 20737-1238. Please state that your comment refers to Docket No. APHIS-2009-0059.

Reading Room: You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. James L. White, Pest Permitting Branch, Registration, Identification, Permitting, and Plant Safeguarding, PPQ, APHIS, 4700 River Road Unit 133, Riverdale, MD 20737-1237; (301) 734-8713.

SUPPLEMENTARY INFORMATION:

Background

The Animal and Plant Health Inspection Service (APHIS) is proposing to issue permits for the release of a bacterium, Bacillus thuringiensis japonensis, into the continental United States for the biological control of the larval stage of Japanese beetle (Popillia japonica).

Japanese beetle is native to Japan where it is not a significant pest and was first discovered in the United States in 1916 near Riverton, NJ. APHIS has administered regulations regarding Japanese beetle since 1979 to prevent its spread to new areas. Currently, 28 States and the District of Columbia are quarantined under 7 CFR 301.48 because of the presence of Japanese beetle.

To control Japanese beetle, turf care professionals and homeowners use large quantities of several chemical insecticides. While these chemicals can be effective, their use can result in potential environmental and health issues. Currently, there are very few biological control options for Japanese beetle control. While these natural products do not present the potential environmental impact that standard insecticides do, they tend to provide inconsistent grub pest control at best.

Thus, a permit application has been submitted to APHIS for the purpose of releasing a soil dwelling bacterium, B. thuringiensis japonensis to reduce the severity of infestations of Japanese beetle in the United States in turfgrass. The field tests requested will be performed in five States: Massachusetts, New Jersey, New York, Ohio, and Rhode Island. Additional locations in different States may be authorized if a finding of no significant impact is reached for the environmental assessment (EA).

APHIS' review and analysis of the proposed action are documented in detail in a draft EA titled “Field Release of Bacillus thuringiensis apnensis, a Bacterium for Biological Control of Japanese Beetle, Popillia japonica (Cloeoptera:Scarabaeidae), in Five States” (February 2009). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 22nd day of September 2009.
Kevin Shea,
Acting Administrator, Animal and Plant Health Inspection Service.

[FR Doc. E9-23326 Filed 9-25-09; 8:45 am]

BILLING CODE 3410-34-P